DEPARTMENT OF COMMERCE

National Telecommunications and Information Administration

Agency Information Collection Activities; Submission to the Office of Management and Budget (OMB) for Review and Approval; Comment Request; Tribal Broadband Connectivity Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 17, 2022 during a 60-day comment period. This notice allows for an additional 30 days for public comments.

Agency: National Telecommunications and Information Administration (NTIA), Commerce.

Title: Tribal Broadband Connectivity Program.

OMB Control Number: 0660-XXXX.

Form Number(s): None.

Type of Request: New information collection.

Number of Respondents: 600.

Average Hours per Response: 33.22.

Burden Hours: 79,728.

Needs and Uses: With this information collection, NTIA will monitor grant recipients' spending and activities to ensure compliance with TBCP requirements and program priorities. In the absence of collecting this information, NTIA would fail to evaluate effectively the award recipients' progress toward completing project activities and achieving core purposes of the TBCP. Moreover, without these reports, NTIA would lack the ability to monitor effectively the award recipients' expenditure of funds to deter waste, fraud, and abuse of TBCP funds. Therefore, it is necessary for NTIA to collect information using the Baseline Report, Semi-Annual Reports, and Annual Report.

Affected Public: Grant award recipients consisting of Tribal Governments, Tribal Colleges or Universities, the Department of Hawaiian Home Lands on behalf of the Native Hawaiian Community, including Native Hawaiian Education Programs, Tribal organizations, or Alaska Native Corporations.

Frequency: Semi-annually and Annually; The Baseline Report is a one-time collection of information from award recipients covering project plans and details about key outputs and outcomes.

Respondent's Obligation: Mandatory.

Legal Authority: Consolidated Appropriations Act, 2021, Division N, Title IX, Section 905(c), Public Law 116-260, 134 Stat. 1182 (Dec. 27, 2020).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-12758 Filed 6-13-22; 8:45 am]

BILLING CODE 3510-60-P